Proclamation 10244 of August 31, 2021

National Preparedness Month, 2021

By the President of the United States of America

A Proclamation

In the past year, our Nation has faced both unpredictable and unprecedented challenges. The 2020 hurricane season was the most active on record. Severe winter storms and record-breaking heat waves interrupted our power sector, and the climate crisis fueled historic drought, water scarcity, and dangerous heat waves, which in turn have helped supercharge the wildfires ravaging the West. All of this has come on top of the ongoing pain and struggle of COVID-19, which has impacted every community across the Nation. Becoming more disaster-resilient as a country—and more prepared as a people—is essential for our continued strength and security. During National Preparedness Month, we encourage all Americans to take the important steps to prepare for natural and human-made threats and to ensure that all our communities are ready for any emergency.

My Administration is committed to taking bold action to prepare for and address the dangers posed by climate change. We have put the climate crisis and the communities most vulnerable to it at the center of our domestic and foreign policy. We are investing in weather forecasting and climate research to strengthen our understanding of how our changing climate is altering severe weather and drought, and we are ensuring that every community has the resources to prepare for and respond to these increasingly dangerous storms. We are also investing in helping developing nations adapt and build their own resilience in the face of climate change.

At home, we are making a once-in-a-generation investment in upgrading our infrastructure so that it is more resilient to the challenges of today, and we are mitigating climate change by building up an American-made clean power economy for tomorrow. That is why I am committed to making a historic commitment to resilience through the Bipartisan Infrastructure Deal to upgrade and modernize our power grid, invest in mass transit and vehicle electrification, and fund environmental cleanup.

I am also rallying the world to join the United States in committing to greater climate ambition. The United States has rejoined the Paris Climate Agreement, and we are leading the charge for stronger global action to cut greenhouse gas pollution and avert the worst impacts of climate change while we still have the chance. The United States is leading by example and creating good, high-paying jobs in the process by harnessing the economic opportunities of climate action.

As we prepare for natural disasters and address the accelerating climate crisis, we must also remain vigilant to prevent, detect, and respond to infectious disease threats, including the COVID-19 pandemic and threats that will arise in the future. Even as more than 174 million Americans have been fully vaccinated—with hundreds of thousands continuing to get vaccinated each day—the more transmissible Delta variant is spreading, particularly among unvaccinated individuals. I continue to call on Americans to protect themselves and those around them by getting vaccinated. The vaccines are safe. They are effective. And together, we can save lives.

The theme of this year's National Preparedness Month is “Prepare to Protect.” During the past year, natural disasters have sent our communities into turmoil, and we have seen the particularly devastating toll they take on disadvantaged, low-income communities and people of color. Beyond the physical damage done by natural disasters, these storms also exact an emotional toll on their victims, from the pain of losing a loved one to the pressure caused by financial setbacks. Therefore, we must all prepare to better protect ourselves and our communities against both immediate crises and their residual effects.

During National Preparedness Month, we also recognize the bravery and the sacrifices of our first responders, who are our first line of defense in so many crises. This month, as we prepare to commemorate the 20th anniversary of the horrific terrorist attacks of September 11, 2001, we honor the lives that were lost and the heroism that was displayed by both first responders and ordinary citizens to respond, and we reaffirm our responsibility to never forget.

This month, we must each do our part—we must all Prepare to Protect. I call on everyone to get vaccinated, turn on emergency alerts on your smartphone, pack an emergency go-bag, and encourage others in your community to do the same.

For assistance in getting prepared, visit the Federal Emergency Management Agency's Ready campaign at www.Ready.gov or www.Listo.gov for Spanish-speakers for free information and resources to help you and your family “Prepare to Protect.”

National Preparedness Month is a call to action to all parts of our government, industrial and commercial sectors, academia, non-governmental organizations, civic groups, religious institutions, and families. By working together today, we can ensure that our Nation is prepared for the natural and human-made threats of tomorrow.

NOW, THEREFORE, I, JOSEPH R. BIDEN JR., President of the United States of America, by virtue of the authority vested in me by the Constitution and the laws of the United States, do hereby proclaim September 2021 as National Preparedness Month. I encourage all Americans to recognize the importance of preparedness and work together to enhance our resilience and readiness.

IN WITNESS WHEREOF, I have hereunto set my hand this thirty-first day of August, in the year of our Lord two thousand twenty-one, and of the Independence of the United States of America the two hundred and forty-sixth.

[FR Doc. 2021-19325

Filed 9-2-21; 11:15 am]

Billing code 3295-F1-P